SURFACE TRANSPORTATION BOARD

[Docket No. AB 1032 (Sub-No. 1X)]

Nebraska, Kansas & Colorado Railway, L.L.C.—Discontinuance of Service Exemption—in Franklin, Harlan, Furnas and Red Willow Counties, Neb., and Decatur, Rawlins and Cheyenne Counties, Kan.

Nebraska, Kansas & Colorado Railway, L.L.C. (NKCR) has filed a verified notice of exemption under 49 CFR pt. 1152 subpart F—Exempt Abandonments and Discontinuances of Service to discontinue service over 174.2 miles of rail line located between: (1) Milepost 216.9, at Franklin, Neb., and milepost 257.4, at Oxford Jct., Neb.; and (2) milepost 0.2, at Orleans Jct., Neb., and milepost 133.9, at St. Francis, Kan, in Franklin, Harlan, Furnas, and Red Willow Counties, Neb., and Decatur, Rawlings, and Cheyenne Counties, Kan. (the Line). The Line traverses United States Postal Service Zip Codes 67756, 67745, 67730, 67731, 67739, 67744, 67749, 69026, 69036, 69046, 68926, 68920, 68977, 68967, 68966, 68971, 68960, 68929, 68939, 68946, 68972, and 69020.

NKCR has certified that: (1) No local traffic has moved over the Line for at least two years; (2) no overhead traffic has moved over the Line for at least two years; (3) no formal complaint filed by a user of rail service on the Line (or by a state or local government entity acting on behalf of such user) regarding cessation of service over the Line is pending either with the Surface Transportation Board (Board) or which any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on September 7, 2017, unless stayed pending reconsideration. Petitions to stay that do not involve environmental issues and formal expressions of intent to file an OFA to subsidize continued rail service under 49 CFR 1152.27(c)(2),¹ must be filed by August 18, 2017.² Petitions for reconsideration must be filed by August 28, 2017, with the Surface Transportation Board, 395 E Street SW., Washington, DC 20423-0001.

¹ Each OFA must be accompanied by the filing fee, which currently is set at $1,700. See 49 CFR 1002.2(f)(25). Effective on September 1, 2017, the fee will increase to $1,800. See Regulations Governing Fees for Servs. Performed in Connection with Licensing & Related Servs.—2017 Update, EP 542 (Sub-No. 25) (STB served July 28, 2017).

² Because this is a discontinuance proceeding and not an abandonment, trail use/rail banking and public use conditions are not appropriate. Because there will be an environmental review during abandonment, this discontinuance does not require environmental review.

A copy of any petition filed with the Board should be sent to NKCR's representative: Karl Morell, 440 1st Street NW., Suite 440, Washington, DC 20001.

If the verified notice contains false or misleading information, the exemption is void ab initio.

Board decisions and notices are available on our Web site at WWW.STB.GOV.

Decided: August 3, 2017.
By the Board, Rachel D. Campbell, Director, Office of Proceedings.
Rena Laws-Byrum,
Clearance Clerk.

[FR Doc. 2017-16701 Filed 8-7-17; 8:45 am]

BILLING CODE 4915-01-P